DEPARTMENT OF COMMERCE

International Trade Administration

[A-588-804]

Ball Bearings and Parts Thereof From Japan; Notice of Extension of Time Limit for Preliminary Results of Antidumping Duty Administrative Review

AGENCY: Import Administration, International Trade Administration, Department of Commerce.

ACTION: Notice of extension of time limit for preliminary results of antidumping duty administrative review.

SUMMARY: The Department of Commerce is extending the time limit for the preliminary results of the administrative review of the antidumping duty order on ball bearings and parts thereof from Japan. The preliminary results of this review are now due March 3, 2003.

EFFECTIVE DATE: February 6, 2003.

FOR FURTHER INFORMATION CONTACT: Sochieta Moth, (202) 482-0168, or Richard Rimlinger, (202) 482-4477, AD/CVD Enforcement 3, Import Administration, International Trade Administration, U.S. Department of Commerce, Washington, DC 20230.

Extension of Time Limit for Preliminary Results of Antidumping Duty Administrative Review

The Department has received requests to conduct an administrative review of the antidumping duty order on ball bearings and parts thereof from Japan. On June 25, 2002, the Department initiated this administrative review covering the period May 1, 2001, through April 30, 2002. See Initiation of Antidumping and Countervailing Duty Administrative Reviews and Requests for Revocations in Part, 67 FR 42753.

Because of the complexity of certain issues and the large number of respondents in the review, it is not practicable to complete this review within the time limits mandated by section 751(a)(3)(A) of the Tariff Act of 1930, as amended. Therefore, in accordance with that section, the Department is extending the time limit for the preliminary results of this administrative review until March 3, 2003.

Dated: January 31, 2003.
Laurie Parkhill,
Acting Deputy Assistant Secretary for AD/CVD Enforcement I.

[FR Doc. 03-2956 Filed 2-5-03; 8:45 am]

BILLING CODE 3510-DS-P